DEPARTMENT OF AGRICULTURE

National Institute of Food and Agriculture

Solicitation of Input From Stakeholders Regarding the Food Safety Outreach Program

AGENCY: National Institute of Food and Agriculture, USDA.

ACTION: Notice of Stakeholder Listening Session and request for stakeholder input.

SUMMARY: As part of the National Institute of Food and Agriculture's (NIFA) strategy to successfully expand the Food Safety Outreach Program, NIFA will host a virtual listening session. The focus of the listening session is to gather stakeholder input to develop the priorities for the Request for Applications (RFA) in Fiscal Year (FY) 2018. NIFA is particularly interested in reaching the intended audience, achieving the most impact, and identifying suggested priorities in the third year of the Food Safety Outreach Program.

DATES: The listening session will be held on Tuesday, January 31, 2017 from 1:00 p.m. to 3:00 p.m., Eastern Standard Time (EST). All written comments must be received by 5 p.m. EST on January 31, 2017 to be considered in the initial drafting of the FY 2018 Food Safety Outreach Program request for applications.

ADDRESSES: The listening session will be hosted using Adobe Connect. On January 31, 2017, please access the following Web site, http://nifa-connect.nifa.usda.gov/r271ozhv661/. In addition, audio conference call capabilities are accessible at 1-888-844-9904, participant code 4715738#.

Please submit comments, identified as NIFA-2017-0002, by any of the following methods:

Federal eRulemaking Portal: http://www.regulations.gov. Follow the instructions for submitting comments.

Email: FSOP@nifa.usda.gov. Include NIFA-2017-0002 in the subject line of the message.

Fax: 202-401-4888.

Mail: Paper, disk or CD-ROM submissions should be submitted to FSOP; Institute of Food Safety and Nutrition (IFSN), National Institute of Food and Agriculture, U.S. Department of Agriculture, STOP 2225, 1400 Independence Avenue SW., Washington, DC 20250-2225.

Hand Delivery/Courier: FSOP, IFSN, National Institute of Food and Agriculture, U.S. Department of Agriculture, Room 2458, Waterfront Centre, 800 9th Street SW., Washington, DC 20024.

Instructions: All submissions received must include the agency name and reference to NIFA-2017-0002. All comments received will be posted to http://www.regulations.gov, including any personal information provided.

FOR FURTHER INFORMATION CONTACT: Dr. Dawanna James-Holly, (202) 401-1950 (phone), (202) 401-4888 (fax), or dholly@nifa.usda.gov.

SUPPLEMENTARY INFORMATION:

Additional Webinars and Comment Procedures

Persons wishing to present during the web-based listening session on Tuesday, January 31, 2017, are requested to pre-register by contacting Dr. Dawanna James-Holly. Participants may reserve one 5-minute comment period. More time may be available, depending on the number of people wishing to make a presentation. Reservations will be confirmed on a first-come, first-served basis. All other participants may provide comments during the listening session if time permits, or by previous listed means.

Background and Purpose

On January 4, 2011, the Food Safety Modernization Act (FSMA) was signed into legislation. The Act amended the Food and Drug Cosmetic Act, 21 U.S.C. 391 et seq. Section 209 of FSMA added section 1011, Subsection (d) entitled “National Food Safety Training, Education, Extension, Outreach and Technical Assistance Program”. In 2015 NIFA and FDA formed a collaboration to establish the National Food Safety Training, Education, Extension, Outreach and Technical Assistance Competitive Grant Program. In 2016, the Food Safety Outreach Program at NIFA expanded the National Food Safety Training, Education, Extension, Outreach, and Technical Assistance Competitive Grant Program. Both programs award competitive grants to eligible recipients for projects that develop and implement FSMA-related food safety training, education, extension, outreach, and technical assistance to owners and operators of small and medium-sized farms, beginning farmers, socially disadvantaged farmers, small processors or small fresh fruit and vegetable merchant wholesalers.

In FY 2016, the Food Safety Outreach Program at NIFA built upon the national infrastructure, with a focus on delivery of customized training to very specific target audiences. Grant applications were solicited directly from those in local communities—to include those from community-based organizations, non-governmental organizations, food hubs, farm cooperatives, extension, and other local groups. Proposals were solicited for three project types: (1) Pilot Projects; (2) Community Outreach Projects; and (3) Multistate Education and Training Projects. Pilot Projects support the development of potentially high-risk and high-impact food safety education and outreach programs in local communities, addressing the needs of small, specialized audiences from among the various target groups. Pilot projects focus on building the capacity of local groups to identify very specific needs within their communities, and implementing appropriately-customized food safety education and outreach programs to meet those specific needs.

Community Outreach Projects support the growth and expansion of already existing food safety education and outreach programs currently offered in local communities. In addition, these projects enable existing programs to reach a broader target audience. These projects enable existing education and training curricula to be modified to ensure that they are consistent with new FSMA rules and to ensure that they meet the needs of expanded audiences.

Multistate Education and Training Projects support the development of multi-county, state-wide or multi-state programs. These projects support collaborations among states not necessarily located within the same regions, but having common food safety concerns, or addressing common commodities.

Since its inception in FY 2015, the program has awarded over $7 million to Community Based Organizations, Cooperative Extension at 1890 and 1862 land-grant institutions, and local food hubs and established 27 new Food Safety Education and Outreach Projects. Many of these projects will work at the local level to provide training and technical assistance to small, mid-sized and hard to reach producers and processors to address the new requirements associated with FSMA.

Implementation Plans

All comments and the official transcript of the listening session, once available, may be reviewed on the NIFA Web page, https://nifa.usda.gov/food-safety-outreach-program, for six months. NIFA plans to consider stakeholder input received from this listening session as well as other written comments in developing the Fiscal Year 2018 solicitations for this program.

Dated: December 2, 2016.
Sonny Ramaswamy,
Director, National Institute of Food and Agriculture.

[FR Doc. 2016-29655 Filed 12-9-16; 8:45 am]

BILLING CODE 3410-22-P